ENVIRONMENTAL PROTECTION AGENCY

[FRL-9935-03-Region 4; CERCLA-04-2015-3757]

Klouda Estate Superfund Site, Fort Valley, Peach County, Georgia; Notice of Settlement

AGENCY: Environmental Protection Agency (EPA).

ACTION: Notice of Settlement.

SUMMARY: Under 122(h) of the Comprehensive Environmental Response, Compensation and Liability Act (CERCLA), the United States Environmental Protection Agency has entered into a settlement with the Estate of Charles Joseph Klouda concerning the Klouda Estate Superfund Site located in Fort Valley, Peach County, Georgia. The settlement addresses recovery of CERCLA costs for a cleanup action performed by the EPA at the Site.

DATES: The Agency will consider public comments on the settlement until November 2, 2015. The Agency will consider all comments received and may modify or withdraw its consent to the settlement if comments received disclose facts or considerations which indicate that the amended settlement is inappropriate, improper, or inadequate.

ADDRESSES: Copies of the settlement are available from the Agency by contacting Ms. Paula V. Painter, Program Analyst using the contact information provided in this notice. Comments may also be submitted by referencing the Site's name through one of the following methods:

• Internet: www.epa.gov/region4/superfund/programs/enforcement/enforcement.html.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: September 2, 2015.
Anita L. Davis,
Chief, Enforcement and Community Engagement Branch, Superfund Division.

[FR Doc. 2015-24948 Filed 9-30-15; 8:45 am]

BILLING CODE 6560-50-P